DEPARTMENT OF HEALTH AND HUMAN SERVICES

Administration for Children and Families

Submission for OMB Review; Comment Request

Title: Information Collection and Record Keeping for the Timely Placement and Release of Unaccompanied Children in ORR Care.

OMB No.:

Description: The ORR Unaccompanied Children Program provides placement, care, custody and mandated services for UC until such time as they can be successfully released to a sponsor, repatriated to their home country, or obtain legal status.

Through cooperative agreements and contracts, ORR funds residential care providers that provide temporary housing and other services to unaccompanied children in ORR custody. These care provider facilities are State licensed and must meet ORR requirements to ensure a high level quality of care. They provide a continuum of care for children, including placements in ORR foster care, group homes, shelter, staff secure, secure, and residential treatment centers. The care providers provide children with classroom education, health care, socialization/recreation, vocational training, mental health services, access to legal services, and case management.

In order to monitor performance and ensure compliance with statutory and regulatory requirements and standards, ORR:

• Collects information from its network of care providers to show evidence that care providers' standards of care, family reunification methods, internal policies and procedures, personnel, training, and other components meet minimum standards and ensure the safety and security of children in ORR care.

• Requires care providers to track the timely release process and delivery of services for individual children and youth to ensure compliance and allow ORR to conduct formal monitoring and performance review.

The tasks described in this supporting statement are mainly conducted through the ORR online database (The UC Portal), which provides a central location for case records and the documentation of other activities (for example, when a child or youth is transferred to another facility). Many of these records are “auto-populated” on the UC Portal once the original data points are completed (such as DOB, “A” number, date of initial placement). The UC Portal is a secure limited access database that requires two factor authentication. The use of electronic records also allows ORR Project Officers to more easily monitor grantee compliance with standards of care and record keeping compared with hard copy case files that are only available onsite. The database also allows ORR to more easily calculate bed capacity throughout the network so that resources are efficiently distributed, particularly during an influx when large numbers of unaccompanied children are crossing the border.

Respondents:

Annual Burden Estimates
Instrument | Number of respondents | Number of responses per respondent | Average burden hours per response | Total burden hours
UC Portal Capacity Report | 50 | 1 | .16/hour | 8
Further Assessment Swift Track (FAST) Placement Tool | 2,320 | 1 | .25/hour | 580
Placement Authorization Form | 58,000 | 1 | .1/hour | 5,800
Notice of Placement in Secure or Staff Secure Facility | 2,320 | 1 | .1/hour | 232
Initial Intakes Form | 58,000 | 1 | .25/hour | 14,500
UC Assessment | 58,000 | 1 | .50/hour | 29,000
Individual Service Plan | 58,000 | 1 | .25 | 14,500
UC Case Review Form | 58,000 | 1 | .50/hour | 29,000
New Sponsor Form | 55,200 | 1 | .25/hour | 13,800
Transfer Request and Tracking Form | 1,000 | 1 | .25/hour | 250
Long Term Foster Care Placement Memo | 279 | 1 | .1/hour | 28
Travel Request Form for UC Long Term Foster Care | 20 | 1 | .25/hour | 5
Notice of Transfer to ICE Chief Counsel and Change of Address | 2,320 | 1 | .1/hour | 232
Care Provider Family Reunification Checklist | 55,200 | 1 | .1 | 5,520
Release Request | 55,200 | 3 | .25 hour | 41,400
Discharge Notification | 716 | 1 | .25/hour | 179
Verification of Release | 55,200 | 1 | .1/hour | 5,520
Child Advocate Referral and Appointment Form | 250 | 1 | .50 | 125
Notice of Rights and Provision of Services Handout | 58,000 | 1 | .1/hour | 5,800
Legal Service Provider List for UC | 58,000 | 1 | .1 | 5,800
URM Application | 350 | 1 | 1 | 350
Withdrawal of Application or Declination of Placement Form | 10 | 1 | .1/hour | 1
Standard Shelter Tour Request | 60 | 1 | .1/hour | 6

Estimated Total Annual Burden Hours: 172,636.

Additional Information: Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2016-14350 Filed 6-16-16; 8:45 am]

BILLING CODE 4184-01-P